DEPARTMENT OF TRANSPORTATION

Federal Aviation Administration

14 CFR Part 71

[Docket No. FAA-2011-1386; Airspace Docket No. 11-ANE-11]

RIN 2120-AA66

Proposed Modification, Revocation and Establishment of Air Traffic Service Routes; Windsor Locks Area; CT

AGENCY: Federal Aviation Administration (FAA), DOT.

ACTION: Notice of proposed rulemaking (NPRM).

SUMMARY: This action proposes to modify four VOR Federal airways, revoke one VOR Federal airway, and establish three area navigation (RNAV) routes in the vicinity of Windsor Locks, CT. The FAA is proposing this action to adjust the airway route structure due to the planned decommissioning of the Bradley VHF omnirange/tactical air navigation (VORTAC) aid located on Bradley International Airport property, Windsor Locks, CT.

DATES: Comments must be received on or before March 9, 2012.

ADDRESSES: Send comments on this proposal to the Docket Management Facility, U.S. Department of Transportation, Docket Operations, M-30, 1200 New Jersey Avenue SE., West Building Ground Floor, Room W12-140, Washington, DC 20590-0001; telephone: (202) 366-9826. You must identify FAA Docket No. FAA-2011-1386 and Airspace Docket No. 11-ANE-11 at the beginning of your comments. You may also submit comments through the Internet at http://www.regulations.gov.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-1386 and Airspace Docket No. 11-ANE-11) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2011-1386 and Airspace Docket No. 11-ANE-11.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's web page at http://www.faa.gov, or the Federal Register's web page at http://www.gpoaccess.gov/fr/index.html.

You may review the public docket containing the proposal, any comments received and any final disposition in person in the Dockets Office (see ADDRESSES section for address and phone number) between 9 a.m. and 5 p.m., Monday through Friday, except Federal holidays. An informal docket may also be examined during normal business hours at the office of the Eastern Service Center, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The State of Connecticut requested the decommissioning and removal of the Bradley VORTAC located on Bradley International Airport property, Windsor Locks, CT. Plans are in place for taxiway expansion and cargo and industry development in the quadrant where the VORTAC is currently sited. There is no suitable site to relocate the VORTAC. The FAA conducted an aeronautical study of the proposal in 2009 and issued a determination of non-objection with the special provision that all instrument procedures that utilize the Bradley VORTAC be modified with minimal impact to the aviation community. This proposed action would modify the affected airways as well as establish new RNAV routes to provide continued navigation capability in the Winsor Locks, CT area.

The Proposal

The FAA is proposing an amendment to Title 14, Code of Federal Regulations (14 CFR) part 71 to modify VOR Federal airways V-130, V-203, V-405 and V-419; remove V-205; and establish RNAV routes T-212, T-255, and T-300. These changes are required due to the planned decommissioning of the Bradley VORTAC in 2012.

V-130 currently extends from the Albany, NY VORTAC, through the Bradley VORTAC, to the Martha's Vineyard, MA, VOR/DME. The FAA would eliminate the segment that currently extends from the Albany, NY, VORTAC, through the Bradley VORTAC to the Norwich, CT VOR/DME. The modified V-130 would originate at the Norwich VOR/DME, then follow the existing route to the Martha's Vineyard, MA, VOR/DME.

V-203 would be extended to encompass the part of V-130 that is being removed as described above. V-203 currently extends between the Albany VORTAC and the Montreal, Canada, VOR/DME. The extension of V-203 would run southeast from the Albany VORTAC to the existing STELA intersection (formed by the Albany 134°(T)/147°(M) radial and the Chester, MA, VOR/DME 266°(T)/279°(M) radial). At that point, flights could link with other VOR Federal airways.

The FAA is proposing to remove V-205 that currently extends from the COATE intersection (8 NM northwest of the Sparta, NJ VORTAC) to the Putnam, CT, VOR/DME. There are other existing airways available that provide navigation to and from Putnam, CT. In addition, a proposed new RNAV route (T-212) would overlie part of V-205's route and would terminate at Putnam.

V-405 would be realigned to bypass the Bradley VORTAC and, instead, be routed through the Barnes, MA, VORTAC (located approximately 13 NM north of Bradley). The airway would then proceed through the Putnam, CT, VOR/DME to the Providence, RI, VORTAC and resume the currently published route to Martha's Vineyard, MA.

V-419 currently extending between Westminster, MD and Boston, MA, would be to extend between Westminster, MD, and the existing BRISS intersection (formed by the Carmel, NY VOR/DME 045°(T)/057°(M) radial and the Madison, CT 328°(T)/341°(M) radial). The route segments between BRISS intersection and Boston would be eliminated. Alternative routing would be available using other existing airways and/or via the proposed new RNAV routes.

The FAA is also proposing to establish three new RNAV routes, designated T-212, T-255 and T-300. T-212 would extend between the WEARD, NY, fix and the Putnam, CT, VOR/DME. T-212 would overlie V-205 (which would be removed). T-255 would extend between the NELIE, CT, waypoint (WP) and the Martha's Vineyard, MA, VOR/DME. It would overlie that portion of V-405 that the FAA is proposing to remove from the route as described above. T-300 would extend between the Albany, NY, VORTAC and the Martha's Vineyard, MA, VOR/DME. This route would overlie another portion of V-130 being removed.

VOR Federal airways and Area Navigation Routes are published in paragraphs 6010(a) and 6011, respectively, of FAA Order 7400.9V, dated August 9, 2011 and effective September 15, 2011, which is incorporated by reference in 14 CFR 71.1. The routes listed in this document would be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies the route structure to maintain the safe and efficient flow of traffic in the northeast United States.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, dated August 9, 2011 and effective September 15, 2011, is amended as follows:

Paragraph 6010 VOR Federal Airways

* * * * *

V-130 (Amended)

From Norwich, CT; INT Norwich 114° and Martha's Vineyard, MA, 267° radials; to Martha's Vineyard.

V-203 (Amended)

From INT Chester, MA 266°T/279°M and Albany, NY 134°(T) 147°(M) radials; Albany; Saranac Lake, NY; Massena, NY; INT Massena 047° and Montreal, Canada 188° radials; Montreal. The airspace within Canada is excluded.

V-205 [Removed]

V-405 (Amended)

From INT Pottstown, PA, 222° and Baltimore, MD, 034° radials; Pottstown; INT Pottstown 050° and Solberg, NJ, 264° radials; Solberg; INT Solberg 044° and Carmel, NY, 243° radials; Carmel; INT Carmel 344° and Pawling, NY, 204° radials; Pawling; Barnes, MA; Putnam, CT; Providence, RI; INT Providence 151° and Martha's Vineyard, MA, 267° radials; to Martha's Vineyard.

V-419 [Amended]

From Westminster, MD to Modena, PA; Solberg, NJ; INT Solberg 044° and Carmel, NY 243° radials; Carmel; to INT Carmel 045°(T)/057°(M) and Madison, CT 328°(T)/341°(M) radials.

* * * * *

Paragraph 6011 United States Area Navigation Routes

* * * * *

T-212 WEARD, NY to Putnam, CT (PUT) [New]
WEARD, NY | Fix | (Lat. 41°45′44″ N., long. 74°31′30″ W.)
WEETS, NY | Fix | (Lat. 41°51′27″ N., long. 74°11′52″ W.)
TRESA, NY | Fix | (Lat. 41°52′50″ N., long. 73°49′07″ W.)
STUBY, CT | Fix | (Lat. 41°54′08″ N., long. 73°26′14″ W.)
VEERS, CT | Fix | (Lat. 41°54′38″ N., long. 73°17′06″ W.)
RONGE, CT | Fix | (Lat. 41°54′53″ N., long. 73°12′21″ W.)
NELIE, CT | WP | (Lat. 41°56′28″ N., long. 72°41′19″ W.)
DARTH, CT | Fix | (Lat. 41°57′56″ N., long. 72°16′21″ W.)
Putnam, CT (PUT) | VOR/DME | (Lat. 41°57′20″ N., long. 71°50′39″ W.)
T-255 NELIE, CT to Martha's Vineyard, MA (MVY) [New]
NELIE, CT | WP | (Lat. 41°56′28″ N., long. 72°41′19″ W.)
BLATT, CT | Fix | (Lat. 41°49′37″ N., long. 72°00′55″ W.)
NOXSE, RI | Fix | (Lat. 41°46′46″ N., long. 71°44′28″ W.)
Providence, RI (PVD) | VORTAC | (Lat. 41°43′28″ N., long. 71°25′47″ W.)
FALMA, RI | Fix | (Lat. 41°22′22″ N., long. 71°10′16″ W.)
Martha's Vineyard, MA (MVY) | VOR/DME | (Lat. 41°23′46″ N., long. 70°36′46″ W.)
T-300 Albany, NY (ALB) to Martha's Vineyard, MA (MVY) [New]
Albany, NY (ALB) | VORTAC | (Lat. 42°44′50″ N., long. 73°48′11″ W.)
CANAN, NY | Fix | (Lat. 42°29′34″ N., long. 73°26′48″ W.)
SHIGY, MA | Fix | (Lat. 42°23′58″ N., long. 73°19′01″ W.)
STELA, MA | Fix | (Lat. 42°16′53″ N., long. 73°09′14″ W.)
MOLDS, MA | Fix | (Lat. 42°12′31″ N., long. 73°03′13″ W.)
TOMES, MA | Fix | (Lat. 42°08′43″ N., long. 72°58′01″ W.)
COBOL, MA | Fix | (Lat. 42°05′13″ N., long. 72°53′14″ W.)
NELIE, CT | WP | (Lat. 41°56′28″ N., long. 72°41′19″ W.)
WIPOR, CT | Fix | (Lat. 41°39′23″ N., long. 72°10′38″ W.)
Norwich, CT (ORW) | VOR/DME | (Lat. 41°33′23″ N., long. 72°59′58″ W.)
LAFAY, RI | Fix | (Lat. 41°27′45″ N., long. 71°43′16″ W.)
MINNK, RI | Fix | (Lat. 41°21′41″ N., long. 71°25′27″ W.)
FALMA, RI | Fix | (Lat. 41°22′22″ N., long. 71°10′16″ W.)
Martha's Vineyard, MA (MVY) | VOR/DME | (Lat. 41°23′46″ N., long. 70°36′46″ W.)

Issued in Washington, DC, on January 17, 2012.
Gary A. Norek,
Acting Manager, Airspace, Regulations and ATC Procedures Group.

[FR Doc. 2012-1395 Filed 1-23-12; 8:45 am]

BILLING CODE 4910-13-P